DEPARTMENT OF TRANSPORTATION

Federal Railroad Administration

[Docket No. FRA-2024-0010]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before July 29, 2024.

ADDRESSES: Written comments and recommendations for the proposed ICR should be submitted on regulations.gov to the docket, Docket No. FRA-2024-0010. All comments received will be posted without change to the docket, including any personal information provided. Please refer to the assigned OMB control number (2130-0596) in any correspondence submitted. FRA will summarize comments received in a subsequent 30-day notice and include them in its information collection submission to OMB.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal statutes and regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Conductor Certification.

OMB Control Number: 2130-0596.

Abstract: FRA's conductor certification regulation (49 CFR part 242) requires railroads to have a formal program for certifying any person as a conductor. As part of that program, railroads are required to have a process for determining competency to serve as a conductor through training, testing, and qualifying prospective conductors and existing conductors before issuing each person certification or recertification. The regulation is intended to ensure that only those persons who meet minimum Federal safety standards serve as conductors.

FRA collects information to ensure that railroads and their employees fully comply with all the requirements of part 242, including a conductor certification/recertification program, fitness requirements, initial and periodic testing, and territorial qualifications.

In this 60-day notice, FRA made adjustments that decreased the previously approved burden hours from 49,761 hours to 46,858 hours. The decrease in burden is a result of the reduced amount of time per response for § 242.115(e) certification review for prior alcohol/drug conduct. The average time was reduced from 10 minutes to 5 minutes, providing a more accurate analysis of the time needed to complete the review.

Additionally, upon a detailed review of part 242, FRA made several adjustments to its estimated paperwork burdens in this ICR extension.¹ FRA determined that fewer employees were changing employers, therefore reducing the number of prior safety records being reviewed. FRA also found that the associated burdens related to substance abuse and medical conditions have decreased as fewer employees have medical conditions that require further evaluation or positive drug and alcohol tests. As a result of these decreased burdens, the number of certification denials due to medical conditions and substance abuse has also decreased.

¹ The public can view all estimate adjustments to FRA's active ICRs in the Supporting Statements published at https://www.reginfo.gov/public/. The Supporting Statement for this ICR will be available after the 30-day Federal Register notice is published in reginfo.gov.

Type of Request: Extension without change (with changes in estimates) of a currently approved information collection.

Affected Public: Businesses.

Form(s): N/A.

Respondent Universe: 784 railroads.

Frequency of Submission: On occasion.

Reporting Burden
CFR section | Respondent universe | Total annual responses | Average time per response | Total annual burden hours | Wage rate | Total cost equivalent U.S. dollars
|  | (A) | (B) | (C = A * B) | (E) | (D = C * E)
242.9—Waivers—Petitions | 784 railroads | 1 waiver petition | 3.00 hours | 3.00 | 85.93 | 257.79
242.103(b)-(c)(2)—Approval of design of individual railroad programs by FRA—Certification programs for new railroads | 784 new railroads | 3 new conductor certification programs | 8.00 hours | 24.00 | 123.41 | 2,961.84
—(c)(1) Conductor certification submission—Copies to rail labor organizations (RLOs) | 784 railroads | 6 certification program submission copies | 15.00 minutes | 1.50 | 85.93 | 128.90
—(c)(2) Affirmative statements that copies of submissions were sent to RLOs | 784 railroads | 6 affirmative statements | 15.00 minutes | 1.50 | 85.93 | 128.90
—(d) RLOs submit comments on RR programs | 784 railroads | 6 certified comments | 4.00 hours | 24.00 | 85.93 | 2,062.32
—(g) Non-conforming program revised and resubmitted to FRA | 784 railroads | 15 revised programs | 3.00 hours | 45.00 | 85.93 | 3,866.85
—(h)(2) Resubmitted certification programs still not conforming and then resubmitted | 784 railroads | 3 resubmitted certification programs | 2.00 hours | 6.00 | 85.93 | 515.58
—(i)(1)-(2) Certification programs materially modified after initial FRA approval | 784 railroads | 96 certificate program material modifications | 2.00 hours | 192.00 | 85.93 | 16,498.56
—(i)(3) Materially modified programs disapproved by FRA and then revised | 784 railroads | 20 modified certification programs | 2.00 hours | 40.00 | 85.93 | 3,437.20
—Revised programs disapproved and then re-submitted | The estimated paperwork burden for this requirement is included under § 242.103(i)(3).
242.107(c)—Types of service—emergency training for reclassification to different type of certification | 35 railroads | 400 records of trainings | 2.00 minutes | 13.00 | 63.07 | 840.72
242.109—Determinations by RRs before certification or recertification and the opportunity for candidates to comment on their prior safety conduct record | 784 railroads | 300 records + 300 comments | 30 minutes + 10 minutes | 225 | 85.93 | 19,334.25
242.111(b)—Prior Safety Conduct as Motor Vehicle Operator—Eligibility determinations | 784 railroads | 16,200 eligibility determinations | 10.00 minutes | 2,700.00 | 85.93 | 232,011.00
—(c) Initial certification for 60 days | 784 railroads | 150 initial certifications | 10.00 minutes | 25.00 | 85.93 | 2,148.25
—(d) Recertification for 60 days | 784 railroads | 125 re-certifications | 10.00 minutes | 21.00 | 85.93 | 1,804.53
—(f) Driver info not provided and request for waiver by persons/railroad | FRA anticipates that there will be zero waiver requests during this three-year collection period.
—(h) Request to obtain driver's license information from licensing agency | 41,000 conductors | 16,200 written requests | 15.00 minutes | 4,050.00 | 63.07 | 255,433.50
—(j) Requests for additional information from driver licensing agency | The estimated paperwork burden for this requirement is included under § 242.111(h).
—(k) Notification to RR by persons of never having a license | 41,000 conductors | 10 notices | 10.00 minutes | 2.00 | 63.07 | 126.14
—(l) Report of Motor Vehicle Incidents | 41,000 conductors | 400 self-reporting | 10.00 minutes | 68 | 63.07 | 4,288.76
—(m)-(n) Evaluation of driving record | 41,000 conductors | 16,200.00 motor vehicle record evaluations | 5.00 minutes | 1,350.00 | 63.07 | 85,144.50
—(o)(1) DAC referral by RR after report of driving drug/alcohol incident | 784 railroads | 200 DAC referrals | 5.00 minutes | 16.00 | 123.41 | 1,974.56
—(o)(2) DAC requests person supply records of prior counseling or treatment and the person must provide the records requested | 784 railroads | 20 DAC requests | 30.00 minutes | 10.00 | 123.41 | 1,234.10
—(o)(3) Condition certifications based upon participation in aftercare or follow-up testing recommended by DAC | 784 railroads | 40 conditional certification recommendations | 4.00 hours | 160.00 | 123.41 | 19,745.60
242.113—Prior safety conduct as employee of a different railroad | The estimated paperwork burden for this requirement is included above in § 242.109.
242.115(b)—Determination that person meets eligibility requirements | 41,000 conductors | 16,200 determinations | 2.00 minutes | 540.00 | 63.07 | 34,057.80
—(c) Written documents from DAC that person is not affected by a substance abuse disorder | 41,000 conductors | 250 filed documents | 30.00 minutes | 125.00 | 123.41 | 15,426.25
—(d)(3) RR treats self-referral for substance abuse counseling by employee as confidential except with respect to ineligibility for certification | 784 railroads | 30 self-referrals | 5.00 minutes | 2.5 | 123.41 | 308.53
—(e) Certification reviews for occurrence/documentation of prior alcohol/drug conduct by persons/conductors | 784 railroads | 16,200 certification reviews | 5.00 minutes | 1,350.00 | 123.41 | 166,603.50
—(e)(3)(i) Written determination that person not currently certified is ineligible and the conditions for the ineligibility period | 784 railroads | 75 written determinations | 1.00 hour | 75.00 | 123.41 | 9,255.75
—(e)(3)(ii) Notification to current conductor that recertification has been denied or certification has been revoked and the conditions for the ineligibility period | 784 railroads | 75 notifications | 30.00 minutes | 37.50 | 85.93 | 3,222.38
—(e)(4) Persons/conductors waiving investigation/de-certifications | 41,000 conductors | 150 waived investigations | 10.00 minutes | 25.50 | 63.07 | 1,608.29
242.117(b)—Vision and hearing acuity—Determination vision standards met | 784 railroads | 16,200 records | 2.00 minutes | 540.00 | 123.41 | 66,641.40
—(b) Determination hearing standards met | 784 railroads | 16,200 records | 2.00 minutes | 540.00 | 123.41 | 66,641.40
—Additional gap hearing tests | The estimated paperwork burden for this requirement is included under § 242.117(b).
—(c)(1) Medical examiner certificate that person has been examined/passed test | 784 railroads | 16,200 file medical examiners | 10.00 minutes | 2,700.00 | 123.41 | 333,207.00
—(c)(2)(i) Document standards can be met with conditions attached | 784 railroads | 25 written documents | 30.00 minutes | 12.50 | 123.41 | 1,542.63
—(c)(2)(ii) Document standards cannot be met even with conditions attached | 784 railroads | 25 written documents | 30.00 minutes | 12.50 | 123.41 | 1,542.63
—(e) Notation person needs corrective device (glasses or hearing aid, or both) | 784 railroads | 5,000 certificate notifications | 10.00 minutes | 833.33 | 123.41 | 102,841.26
—(j) Person not meeting hearing or vision thresholds requests further medical evaluation for new determination | 784 railroads | 50 requests + 50 determination | 30 minutes + 10 minutes | ² 33.50 | 63.07 123.41 | 2,625.73
—(j) Consultations by medical examiners with railroad officer and issue of conditional certification | 784 railroads | 15 consults + 15 certifications | 30 minutes + 10 minutes | ³ 10.05 | 123.41 85.93 | 1,144.69
—(k) Notification by certified conductor of deterioration of vision/hearing | 784 railroads | 20 notifications | 10.00 minutes | 3.00 | 63.07 | 189.21
242.119(a)—Training—New railroads—Training program | 3 new railroads | 3 training programs | 3.00 hours | 9.00 | 123.41 | 1,110.69
—(a) Modification to training program | 783 railroads | 75 programs | 30.00 minutes | 38.00 | 85.93 | 3,265.34
—(c) Written documentation showing each person completed training for certification or recertification | 783 railroads | 50 written documents | 30.00 minutes | 25.00 | 85.93 | 2,148.25
—(d)(5) Modified training programs due to new laws, regulations, orders, technologies, procedures, or equipment | 784 railroads | 24 modified training programs | 2.00 hours | 48.00 | 85.93 | 4,124.64
—(f) Employee consultation with qualified supervisory employee if given written test to demonstrate knowledge of physical characteristics of any assigned territory | 784 railroads | 1,000 consultations | 15.00 minutes | 250.00 | 63.07 | 15,767.50
—(i) Familiarization training for conductor of acquiring railroad from selling company/railroad prior to commencement of new operation | 784 railroads | 20 training records | 15.00 minutes | 5.00 | 63.07 | 315.35
—(l) RR continuous education/training of conductors | 784 railroads | 16,200 training records | 15.00 minutes | 4,050.00 | 63.07 | 255,433.50
242.121(a)-(f)—Knowledge testing—Determining eligibility | 784 railroads | 16,200 examination records | 15.00 minutes | 4,050.00 | 63.07 | 255,433.50
—(g) Retests/re-examinations | 784 railroads | 1,000 retests or reexamination records | 15.00 minutes | 250.00 | 63.07 | 15,767.50
242.123(a)-(e)—Monitoring operational Performance | 784 railroads | 16,200 operational compliance test records | 10.00 minutes | 2,700.00 | 85.93 | 232,011.00
—(f) Return to service that requires unannounced compliance test/record | 784 railroads | 1,000 unannounced compliance test records | 10.00 minutes | 167 | 85.93 | 14,350.31
242.125—Determination made by railroad relying on another railroad's certification | 784 railroads | 100 determinations | 30.00 minutes | 50.00 | 63.07 | 3,153.50
242.127—Reliance on qualification requirements of other countries | 784 railroads | 20 determinations | 30.00 minutes | 10.00 | 63.07 | 630.70
242.203(b)—Retaining information supporting determination—Records | 784 railroads | 16,200 record retentions | 15.00 minutes | 4,050.00 | 85.93 | 348,016.50
—(c) Amended electronic records | 784 railroads | 20 amended records | 30.00 minutes | 10.00 | 85.93 | 859.30
242.205—Identification of certified persons and recordkeeping. List of certified persons | 784 railroads | 784 lists | 5.00 minutes | 63.00 | 85.93 | 5,413.59
242.209(a)—Maintenance of Certificates—Request to display certificate | 784 railroads | 2,000 displayed certificates | 2.00 minutes | 67.00 | 63.07 | 4,225.69
—(b) Notification by conductors that RR request to serve exceeds certification | 784 railroads | 1,000 notifications | 10.00 minutes | 167 | 63.07 | 10,532.69
242.211—Replacement of certificates | 784 railroads | 500 temporary replacement certificates | 5.00 minutes | 42.00 | 85.93 | 3,609.06
242.213(e)—Multiple certificates—Notification to engineer that no conductor is on train | 35 railroads | 5 locomotive engineer notifications | 10.00 minutes | 1.00 hour | 85.93 | 85.93
—(f) Notification of denial of certification by individuals holding certifications from more than one railroad | 784 railroads | 10 notifications | 10.00 minutes | 2.00 | 63.07 | 126.14
242.215(a)—Railroad oversight responsibilities—Review and analysis of administration of certification program | 53 railroads | 53 reviews and analyses | 40.00 hours | 2,120.00 | 85.93 | 182,171.60
—(d)-(i) Upon FRA's request, railroad provides a report of findings and conclusions | 784 railroads | 53 reports | 4.00 hours | 212.00 | 85.93 | 18,217.16
242.301(a)—Determinations—Territorial qualification and joint operations | 320 railroads | 1,000 determinations | 15.00 minutes | 250.00 | 63.07 | 15,767.50
—(b) Notification by persons who do not meet territorial qualification | 320 railroads | 300 notifications | 10.00 minutes | 50.00 | 63.07 | 3,153.50
242.401(a)—Denial of certification—Notification to candidate of information that forms basis for denying certification and candidate response | 784 railroads | 80 notices + 40 responses | 1 hour + 1 hour | ⁴ 120.00 | 123.41 63.07 | 12,395.60
—(c) Written notification of denial of certification | 784 railroads | 40 notifications | 1.00 hour | 40.00 | 85.93 | 3,437.20
242.403—Criteria for revoking certification—Review of compliance conduct | 784 railroads | 1,000 certification reviews | 15.00 minutes | 250.00 | 63.07 | 15,767.50
242.407(a)—Process for revoking certification—Revocation for violations of section 242.115(e) and 242.403(e) | 784 railroads | 1,000 revoked certifications | 8.00 hours | 8,000.00 | 123.41 | 987,280.00
—(b)(1) and (2) Immediate suspension of certificate | 784 railroads | 1,000 suspended certification letters | 1.00 hour | 1,000.00 | 85.93 | 85,930.00
—(b)(7) Hearing record | 784 railroads | 1,000 records | 5.00 minutes | 250.00 | 85.93 | 21,482.50
—(c) Written decisions by railroad official | 784 railroads | 1,000 written decisions | 2.00 hours | 2,000.00 | 123.41 | 246,820.00
—(c) Service of written decision on employee by RR + RR service proof | 784 railroads | 1,000 served written decisions + 1,000 service proofs | 10 minutes + 5 minutes | 250.00 | 85.93 | 21,482.50
—(f) Written waiver of right to hearing | 41,000 conductors | 700 written waivers | 10.00 minutes | 117.00 | 63.07 | 7,379.19
—(g) Revocation of certification based on information that another railroad has done so | 784 railroads | 15 revoked certifications | 10.00 minutes | 3.00 | 123.41 | 370.23
—(j) Placing relevant information in record prior to suspending certification/convening hearing | 784 railroads | 100 updated records | 1.00 hour | 100.00 | 85.93 | 8,593.00
Totals ⁵ | 784 railroads | 220,123 responses | N/A | 46,858 |  | 4,281,590

Total Estimated Annual Responses: 220,123.

² Breakdown of total burden hours is 25 hours × $63.07 = $1,576.75, and 8.5 hours × 123.41 = $1,048.98 for a total of 33.50 hours and $2,625.73 total cost equivalent.

³ Breakdown of total burden hours is 7.5 hours × $123.41 = $925.57, and 2.55 hours × 85.93 = $219.12 for a total of 10.05 hours and $1,144.69 total cost equivalent.

⁴ Breakdown of total burden hours is 80 hours × $123.41 = $9,872.80, and 40 hours × 63.07 = $2,522.80 for a total of 120 hours and $12,395.60 total cost equivalent.

⁵ Totals may not add up due to rounding.

Total Estimated Annual Burden: 47,858 hours.

Total Estimated Annual Burden Hour Dollar Cost Equivalent: $4,344,660.

FRA informs all interested parties that it may not conduct or sponsor, and a respondent is not required to respond to, a collection of information that does not display a currently valid OMB control number.

Authority: 44 U.S.C. 3501-3520.

Christopher S. Van Nostrand,
Deputy Chief Counsel.

[FR Doc. 2024-11539 Filed 5-24-24; 8:45 am]

BILLING CODE 4910-06-P